DEPARTMENT OF TRANSPORTATION

Surface Transportation Board

[STB Finance Docket No. 34321]

Union Pacific Railroad Company—Trackage Rights Exemption—The Burlington Northern and Santa Fe Railway Company

The Burlington Northern and Santa Fe Railway Company (BNSF) has agreed to grant overhead trackage rights to Union Pacific Railroad Company (UP) over BNSF's rail lines between BNSF milepost 143.2 near Los Angeles, CA, and BNSF milepost 10.5 near Riverside, CA,¹ a distance of approximately 57.2 miles.²

¹ On March 7, 2003, UP concurrently filed a petition for partial revocation of this class exemption in STB Finance Docket No. 34321 (Sub-No. 1), Union Pacific Railroad Company—Trackage Rights Exemption—The Burlington Northern and Santa Fe Railway Company, wherein UP and BNSF request that the Board permit the proposed overhead trackage rights arrangement described in the present proceeding to expire on or about May 12, 2003. That petition will be addressed by the Board in a separate decision.

² The original notice of exemption stated that the distance involved is 52.2 miles. By letter filed March 12, 2003, UP states that the correct distance for the trackage rights is 57.2 miles. By letter filed March 13, 2003, UP explains that the milepost designations of the trackage rights segment (between BNSF mileposts 143.4 and 10.5) do not reflect the actual length of the segment between Los Angeles and Riverside because the trackage includes portions of two BNSF subdivisions that have noncontiguous milepost designations.

The transaction was scheduled to be consummated on March 14, 2003 (7 days after the notice was filed). The temporary trackage rights will allow UP to conduct maintenance work on its lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34321, must be filed with the Surface Transportation Board, 1925 K Street, NW, Washington, DC 20423-0001. In addition, a copy of each pleading must be served on Robert T. Opal, 1416 Dodge Street, Room 830, Omaha, NE 68179.

Board decisions and notices are available on our Web site at http://www.stb.dot.gov.

Decided: March 18, 2003.
By the Board, David M. Konschnik, Director, Office of Proceedings.
Vernon A. Williams,
Secretary.

[FR Doc. 03-6921 Filed 3-25-03; 8:45 am]

BILLING CODE 4915-00-P